ENVIRONMENTAL PROTECTION AGENCY

40 CFR Part 300

[EPA-HQ-SFUND-1986-0005; FRL-9997-61-Region 9]

National Oil and Hazardous Substances Pollution Contingency Plan; National Priorities List: Deletion of the Intel Corp. (Santa Clara III) Superfund Site

AGENCY: Environmental Protection Agency (EPA).

ACTION: Proposed rule; notice of intent.

SUMMARY: The Environmental Protection Agency (EPA) Region 9 is issuing a Notice of Intent to Delete the Intel Corp. (Santa Clara III) Superfund Site (Site) located in Santa Clara, California, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). EPA and the State of California, through the San Francisco Regional Water Quality Control Board (RWQCB), have determined that all appropriate response actions under CERCLA have been completed. However, this deletion does not preclude future actions under Superfund.

DATES: Comments must be received by August 30, 2019.

ADDRESSES: Submit your comments, identified by Docket ID no. EPA-HQ-SFUND-1986-0005, by one of the following methods:

• http://www.regulations.gov Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

• Email: Project Manager: Hadlock.holly@epa.gov or Community Involvement Coordinator: Lane.jackie@epa.gov.

• Mail: Holly Hadlock (SFD-7-3), U.S. EPA, 75 Hawthorne Street, San Francisco, CA 94105.

• Hand delivery: Superfund Records Center, U.S. EPA, 75 Hawthorne Street, San Francisco, California. Such deliveries are accepted only during EPA's normal hours of operation, and special arrangements should be made for deliveries of boxed information.

Instructions: Direct your comments to Docket ID no. EPA-HQ-SFUND-1986-0005. EPA's policy is that all comments received will be included in the public docket without change and may be made available online at http://www.regulations.gov, including any personal information provided, unless the comment includes information claimed to be CBI or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at the following repositories:

Superfund Records Center, 75 Hawthorne Street Room 3110, San Francisco, California, Hours: 8:00 a.m.-4:00 p.m.; (415) 947-8717

Site Repository: Santa Clara City Library, 2635 Homestead Road, Santa Clara, California. Call (408) 615-2900 for hours of operation.

FOR FURTHER INFORMATION CONTACT: Holly Hadlock, Project Manager, U.S. EPA, Region 9 (SFD-7-3), 75 Hawthorne Street, San Francisco, CA 94105, (415) 972-3171, email: hadlock.holly@epa.gov.

SUPPLEMENTARY INFORMATION:

Table of Contents:

I. Introduction

II. NPL Deletion Criteria

III. Deletion Procedures

IV. Basis for Intended Site Deletion

I. Introduction

EPA Region 9 announces its intent to delete the Intel Corp. (Santa Clara III) Superfund Site from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this Site for thirty (30) days after publication of this document in the Federal Register.

Section II of this document explains the criteria for deleting sites from the NPL. Section III discusses procedures that EPA is using for this action. Section IV discusses the Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) EPA consulted with the State before developing this Notice of Intent to Delete;

(2) EPA has provided the State 30 working days for review of this notice prior to publication of it today;

(3) In accordance with the criteria discussed above, EPA has determined that no further response is appropriate;

(4) The State of California, through the RWQCB, has concurred with deletion of the Site from the NPL;

(5) Concurrently with the publication of this Notice of Intent to Delete in the Federal Register, a notice is being published in a local newspaper, The Santa Clara Weekly. The newspaper notice announces the 30-day public comment period concerning the Notice of Intent to Delete the Site from the NPL; and

(6) EPA placed copies of documents supporting the proposed deletion in the deletion docket and made these items available for public inspection and copying at the Site information repositories identified above.

If comments on this document are received within the 30-day public comment period, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the Site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL.

Site Background and History

The Site (CERCLIS ID # CAT000612184) is located at 2880 Northwestern Parkway in the City of Santa Clara, Santa Clara County, California, approximately six miles south of the San Francisco Bay. The Site is approximately four acres in size. Intel Corporation (Intel) performed quality control of chemicals and electrical testing of semiconductors at the Site from 1976 to 2008. Volatile organic compounds (VOCs), primarily trichloroethene (TCE), were detected in shallow groundwater at the Site starting in 1982. Waste solvents were managed in a drum storage area and acid neutralization system located outdoors in the area of groundwater contamination and may have been the source of the groundwater VOCs; however, no evidence of a source was found in Site soil or soil gas. On October 15, 1984, the Site was proposed for NPL listing (49 FR 40320). On June 10, 1986, EPA added the Site to the NPL (51 FR 21072). Prior to the Site's listing on the NPL, the acid neutralization system and drum storage area were removed and a two-well groundwater extraction and treatment system (GWTS) was installed and put into operation.

Ongoing Development

The Site is zoned for light industrial use and is in an industrial park, dominated by the electronics industry, particularly semiconductor manufacturing. Since 2010, the Site has been owned by Vantage Data Center as part of its 18-acre Santa Clara campus, which is under redevelopment.

Remedial Investigation and Feasibility Study (RI/FS)

The Remedial Investigation (RI) was completed in 1989 and included investigation of groundwater, soil, and soil gas. Based on the RI, EPA concluded that only VOCs in shallow (less than 30 feet deep) groundwater required cleanup. By 1990 the only contaminant above drinking water standards was TCE. Indoor air was sampled in 2010 and EPA determined that there is no unacceptable risk of TCE vapor intrusion.

EPA completed the Feasibility Study (FS) in early 1990. The FS evaluated four alternatives: (1) No further action; (2) continued operation of the existing two-well GWTS, groundwater monitoring, and implementation of a deed restriction; (3) cyclic operation of the existing two-well GWTS, groundwater monitoring, and implementation of a deed restriction; and (4) addition of a third extraction well and cyclic operation of the expanded GWTS, groundwater monitoring, and implementation of a deed restriction.

Selected Remedy

The Record of Decision (ROD) was issued on September 20, 1990, and Alternative 4 was the selected remedy. As described above, this remedy included modifications to and continued operation of the existing GWTS and implementation of a deed restriction for shallow groundwater use.

The remedial action objectives for the remedy selected in the 1990 ROD was to restore the groundwater to maximum contaminant levels (MCLs); prevent migration of contaminants in the groundwater; prevent any exposure of the public to contaminated groundwater; and restore the A-zone groundwater to drinking water quality. Although the 1990 ROD listed MCL cleanup criteria for nine different VOCs, only TCE remained above the MCL when the ROD was issued.

A ROD Amendment was signed on September 7, 2010, modifying the previously selected remedy for the Site, but leaving intact the 1990 ROD's RAO of restoring groundwater to its beneficial use as drinking water. The amended remedy included the deed restriction already recorded for the Site and monitored natural attenuation (MNA) to achieve groundwater clean-up standards.

Response Actions

The remedy selected in the 1990 ROD remedy was implemented in 1991. By 1995 the GWTS was no longer effective at reducing groundwater TCE concentrations and was shut down with RWQCB approval. In 2005, an in-situ chemical oxidation (ISCO) pilot test was implemented, but it also did not achieve the MCL in all wells. In January 2008, a new and expanded deed restriction was recorded. In addition to restricting extraction of groundwater, this new deed restriction included specifications that no residences, hospitals, schools, or daycare centers could be built at the Site and that no excavations greater than three feet bgs were allowed without RWQCB approval. In 2016, a pilot study using injected colloidal activated carbon was implemented for in situ adsorption of the low (less than 10 micrograms per liter) and localized (two monitoring wells) TCE concentrations above the MCL that remained in shallow groundwater. Follow-up injections were conducted near one of these two monitoring wells in 2017.

Cleanup Levels

Following the 2016-2017 pilot study, groundwater monitoring was conducted periodically in the two monitoring wells that previously had groundwater TCE concentrations above the MCL. These groundwater monitoring data were evaluated using EPA statistical tools for assessing completion of groundwater restoration. EPA determined that the RAO (i.e., groundwater restoration to drinking water standards) had been attained at the Site based on: (1) TCE concentrations in these two monitoring wells were below MCLs; (2) TCE concentrations in these two monitoring wells were expected to remain below MCLs; and, (3) groundwater VOCs in all other Site monitoring wells had been consistently below MCLs for at least seven years.

Operation and Maintenance

Under the MNA remedy, the operation, maintenance, and monitoring included periodic groundwater monitoring and maintenance of the deed restriction. The 2008 deed restriction was signed by Intel and the RWQCB and was recorded with Santa Clara County by Intel. Because cleanup is now complete at the Site, the deed restriction is being terminated, groundwater monitoring has been discontinued, the monitoring wells have been properly closed under Santa Clara Valley Water District (SCVWD) permit, and monitoring and maintenance have been discontinued.

Five-Year Reviews

EPA conducts reviews every five years to determine if remedies are functioning as intended and if they continue to be protective of human health and the environment. EPA issued the Fifth Five-Year Review Report on August 4, 2016, and concluded that the remedy at the Intel Santa Clara 3 Site is protective of human health and the environment. At that time, groundwater contamination had been reduced to below the MCLs in all but a very limited area, and any potential exposures were controlled through the deed restriction. No future five-year reviews are needed because the MCL cleanup goals have been attained throughout the Site, all monitoring wells have been closed, and the deed restriction is being terminated.

Community Involvement

EPA held community meetings before and during the Site cleanup, most recently in 2009. EPA released a fact sheet shortly before publication of this Notice informing the community of the proposal to delete the surface soil portion of the Site from the NPL and how to submit comments.

Determination That the Site Meets the Criteria for Deletion in the NCP

EPA has followed all procedures required by 40 CFR 300.425(e), Deletion from the NPL. EPA consulted with the State of California prior to developing this Notice. EPA determined that the responsible party has implemented all appropriate response actions required and that no further response action for the Site is appropriate. EPA is publishing a notice in a local newspaper, The Santa Clara Weekly, of its intent to delete the Site and how to submit comments. EPA placed copies of documents supporting the proposed deletion in the Site information repositories; these documents are available for public inspection and copying.

The implemented groundwater remedy achieved the degree of cleanup and protection specified in the ROD for the Site. The selected remedial action objectives and associated cleanup levels for the groundwater are consistent with agency policy and guidance. Based on information currently available to EPA, no further Superfund response is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p.306; E.O. 12777, 56 FR 54757, 3 CFR, 1991 Comp., p.351; E.O. 12580, 52 FR 2923, 3 CFR, 1987 Comp., p. 193.

Dated: July 23, 2019.
Michael B. Stoker
Regional Administrator, Region 9.

[FR Doc. 2019-16320 Filed 7-30-19; 8:45 am]

BILLING CODE 6560-50-P